DEPARTMENT OF TRANSPORTATION

Surface Transportation Board

[STB Finance Docket No. 34506]

Great Basin and Northern Railroad—Change in Operators Exemption—The City of Ely and the White Pine Historical Railroad Foundation

Great Basin and Northern Railroad, a noncarrier, has filed a verified notice of exemption under 49 CFR 1150.31 to operate over approximately 28.8 miles of rail line owned by the City of Ely (the City) and the White Pine Historical Railroad Foundation (the Foundation) as follows: (a) Between milepost 127.9 at McGill Junction and milepost 146.1 at Keystone; (b) between milepost 127.9 at McGill Junction and milepost MB 2.6 at McGill; and (c) between milepost 135.3 at Hiline and milepost H-8 at Adverse, in White Pine County, NV.¹

¹ Previously, rail service had been provided by the BHP Nevada Railroad Company (BHP) over the main line segment between Keystone and McGill Junction, NV, pursuant to a license agreement with the City and the Foundation. BHP discontinued its rail service pursuant to a decision in BHP Nevada Railroad Company—Discontinuance of Service Exemption—in Elko and White Pine Counties, NV, STB Docket No. AB-598X (STB served May 24, 2002).

The transaction was expected to be consummated on or about May 19, 2004, the effective date of the exemption.

If the verified notice contains false or misleading information, the exemption is void ab initio. Petitions to revoke the exemption under 49 U.S.C. 10502(d) may be filed at any time. The filing of a petition to revoke will not automatically stay the transaction.

An original and 10 copies of all pleadings, referring to STB Finance Docket No. 34506, must be filed with the Surface Transportation Board, 1925 K Street, NW., Washington, DC 20423-0001. In addition, a copy of each pleading must be served on Nicholas J. DiMichael, Esq., Thompson Hine LLP, 1920 N Street, NW., Suite 800, Washington, DC 20036.

Board decisions and notices are available on our Web site at WWW.STB.DOT.GOV.

Decided: May 27, 2004.
By the Board, David M. Konschnik, Director, Office of Proceedings.
Vernon A. Williams,
Secretary.

[FR Doc. 04-12687 Filed 6-4-04; 8:45 am]

BILLING CODE 4915-01-P